GENERAL SERVICES ADMINISTRATION

[OMB Control No. 3090-XXXX; Docket No. 2017-0001; Sequence 3]

Submission for OMB Review; Ombudsman Inquiry/Request Instrument

AGENCY: Office of Acquisition Policy, Office of the Procurement Ombudsman (OPO), General Services Administration (GSA).

ACTION: Notice of request for comments regarding a new request for an Office of Management and Budget (OMB) clearance.

SUMMARY: Under the provisions of the Paperwork Reduction Act, the Regulatory Secretariat Division will be submitting to the OMB a request to review and approve a new information collection requirement regarding OMB Control No: 3090-XXXX; Ombudsman Inquiry/Request Instrument. A notice was published in the Federal Register on May 19, 2017. No comments were received.

DATES: Submit comments on or before October 5, 2017.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching for “Information Collection 3090-XXXX; Ombudsman Inquiry/Request Instrument.” Select the link “Submit a Comment” that corresponds with “Information Collection 3090-XXXX; Inquiry/Request Instrument.” Follow the instructions provided at the “Submit a Comment” screen. Please include your name, company name (if any), and “Information Collection 3090-XXXX; Ombudsman Inquiry/Request Instrument” on your attached document.

• Mail: General Services Administration, Regulatory Secretariat Division (MVCB), 1800 F Street NW., Washington, DC 20405. ATTN: Ms. Sosa/IC 3090-XXXX; Office of the Ombudsman Inquiry/Request Instrument.

Instructions: Please submit comments only and cite Information Collection 3090-XXXX; Inquiry/Request Instrument, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Millisa Gary, GSA Procurement/Task & Delivery Order Ombudsman, Office of Acquisition Policy, Office of the Ombudsman, GSA, at telephone 202-501-0699 or via email to millisa.gary@gsa.gov.

SUPPLEMENTARY INFORMATION:

A. Purpose

OPO wants to place an online intake Instrument on the GSA Ombudsman's Web page for receiving inquiries from vendors who are currently doing business with, or interested in doing business with GSA. The inquiries will be collected by the GSA Ombudsman and routed to the appropriate office for resolution and/or implementation in the case of recommendations for process or program improvements. Reporting of the data collected will help highlight thematic issues that vendors encounter with GSA acquisition programs, processes or policies, and identify areas where training is needed. The information collected will also assist in identifying and analyzing patterns and trends to help improve efficiencies and lead to improvements in current practices.

B. Annual Reporting Burden

Maximum Potential Respondents: 118.

Responses per Respondent: 1.

Total Maximum Potential Annual Responses: 118.

Hours per Response: .25.

Total Burden Hours: 29.5.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755.

Please cite OMB Control No. 3090-XXXX, Inquiry/Request Instrument, in all correspondence.

Jeffrey A. Koses,
Director, Office of Acquisition Policy, Office of Government-wide Policy.

[FR Doc. 2017-18675 Filed 9-1-17; 8:45 am]

BILLING CODE 6820-61-P